DEPARTMENT OF LABOR

Occupational Safety and Health Administration

Agency Information Collection Activities: Announcement of the Office of Management and Budget Control Numbers Under the Paperwork Reduction Act

AGENCY: Occupational Safety and Health Administration (OSHA), Labor.

ACTION: Notice; announcement of the Office of Management and Budget's (OMB) approval of information collection requirements.

SUMMARY: The Occupational Safety and Health Administration announces that OMB extended its approval for a number of information collection requirements found in sections of 29 CFR parts 1910, 1915, and 1926, and regulations on Safety and Health On-site Consultation Agreements, Recordkeeping and Reporting Occupational Injuries and Illnesses, and Occupational Safety and Health Act Variances. OSHA sought approval of these requirements under the Paperwork Reduction Act (PRA), and, as required by that Act, is announcing the approval numbers and expiration dates for these requirements.

DATES: This notice is effective November 12, 2015.

FOR FURTHER INFORMATION CONTACT: Theda Kenney or Todd Owen, Directorate of Standards and Guidance, Occupational Safety and Health Administration, U.S. Department of Labor, Room N-3609, 200 Constitution Avenue NW., Washington, DC 20210, telephone: (202) 693-2222.

SUPPLEMENTARY INFORMATION: In a series of Federal Register notices, the Agency announced its requests to OMB to renew its current extensions of approvals for various information collection (paperwork) requirements in its safety and health standards pertaining to general industry, shipyard employment, and the construction industry (i.e., 29 CFR parts 1910, 1915, and 1926), and regulations containing Occupational Safety and Health On-site Consultation Agreements, Recordkeeping and Reporting, Occupational Injuries and Illnesses, Occupational Safety and Health State Plans, and Occupational Safety and Health Act Variances. In these Federal Register announcements, the Agency provided 60-day comment periods for the public to respond to OSHA's burden hour and cost estimates.

In accord with the PRA (44 U.S.C. 3501-3520), OMB approved these information collection requirements. The table below provides the following information for each of these information collection requirements approved by OMB: The title of the Federal Register notice; the Federal Register reference (date, volume, and leading page); OMB's Control Number; and the new expiration date.

Title of the information collection request | Date of Federal Register publication, Federal Register reference, and OSHA docket No. | OMB control No. | Expiration date
13 Carcinogens Standard (29 CFR 1910.1003, 1915.1003, and 1926.1103) | April 27, 2015, 80 FR 23301, Docket No. OSHA 2011-08600 | 1218-0085 | 08/31/2018
Acrylonitrile Standard (29 CFR 1910.1045) | November 13, 2014, 79 FR 67463, Docket No. OSHA 2011-0195 | 1218-0126 | 06/30/2018
Asbestos in Construction Standard (29 CFR 1926.1101) | May 21, 2015, 80 FR 29344, Docket No. OSHA 2012-0009 | 1218-0134 | 08/31/2018
Blasting Operations and the use of Explosives (29 CFR part 1926, subpart U) | June 11, 2015, 80 FR 33294, Docket No. OSHA 2011-0747 | 1218-0217 | 10/31/2018
Bloodborne Pathogens Standard (29 CFR 1910.1030) | October 7, 2014, 79 FR 60503, Docket No. OSHA 2010-0047 | 1218-0180 | 06/30/2018
Cadmium in Construction (29 CFR 1926.1127) | May 21, 2015, 80 FR 29346, Docket No. OSHA 2012-0004 | 1218-0186 | 10/31/2018
Coke Oven Emissions (29 CFR 1910.1029) | September 9, 2014, 79 FR 53450, Docket No. OSHA 2011-0181 | 1218-0128 | 05/31/2018
Confined Spaces in Construction (29 CFR part 1926, subpart AA) | October 22, 2014, 79 FR 63174, Docket No. OSHA 2011-0034 | 1218-0258 | 05/31/2018
Cotton Dust (29 CFR 1910.1043) | November 13, 2014, 79 FR 67462, Docket No. OSHA 2011-0194 | 1218-0061 | 05/31/2018
Electrical Standards for Construction (29 CFR part 1926, subpart K) and for General Industry (29 CFR part 1910, subpart S) | October 31, 2014, 79 FR 64838, Docket No. OSHA 2011-0187 | 1218-0130 | 06/30/2018
Forging Machines (29 CFR 1910.218) | June 30, 2014, 79 FR 36832, Docket No. OSHA 2011-0064 | 1218-0228 | 03/31/2018
General Provisions and Confined and Enclosed Spaces and Other Dangerous Atmospheres in Shipyard Employment (29 CFR part 1915) | October 22, 2014, 79 FR 63171, Docket No. OSHA 2011-0034 | 1218-0011 | 03/31/2018
Grain Handling Facilities (29 CFR 1910.272) | February 7, 2014, 79 FR 7479, Docket No. OSHA 2011-0028 | 1218-0206 | 10/31/2017
Mechanical Power Press (29 CFR 1910.217(e)(1)) | April 29, 2015, 80 FR 23820, Docket No. OSHA 2012-0017 | 1218-0229 | 10/31/2017
Methylene Chloride (29 CFR 1910.1052) | December 4, 2014, 79 FR 72030, Docket No. OSHA 2011-0060 | 1218-0179 | 06/30/2018
Occupational Safety and Health On-site Consultation Agreements (29 CFR part 1908) | March 30, 2015, 80 FR 16700, Docket No. OSHA 2011-0125 | 1218-0110 | 06/30/2018
Permit-Required Confined Spaces (29 CFR 1910.146) | April 27, 2015, 80 FR 23297, Docket No. OSHA 2011-0858 | 1218-0203 | 08/31/2018
Recordkeeping and Reporting Occupational Injuries and Illnesses (29 CFR part 1904) | February 20, 2014, 79 FR 9768, Docket No. OSHA 2010-0055 | 1218-0176 | 01/31/2018
Reports of Injuries to Employees Operating Mechanical Power Presses (29 CFR 1910.217(g)) | April 29, 2015, 80 FR 23820, Docket No. OSHA 2012-0017 | 1218-0070 | 10/31/2018
Respiratory Protection Standard (29 CFR 1910.134) | July 10, 2014, 79 FR 39412, Docket No. OSHA 2011-0027 | 1218-0099 | 03/31/2018
Servicing Multi-Piece and Single Piece Rim Wheels (29 CFR 1910.177) | October 7, 2014, 79 FR 60502, Docket No. OSHA 2011-0189 | 1218-0219 | 06/30/2018
Shipyard Employment Standards (29 CFR part 1915) | November 13, 2014, 79 FR 67465, Docket No. OSHA 2011-0190 | 1218-0220 | 06/30/2018
Slings Standard (29 CFR 1910.184) | October 22, 2014, 79 FR 63172, Docket No. OSHA 2011-0063 | 1218-0223 | 06/30/2018
Telecommunications Standard (29 CFR 1910.268) | September 25, 2015, 79 FR 57584, No. OSHA 2010-0057 | 1218-0225 | 06/30/2018
Variance Regulations (29 CFR 1905.10, 1905.11 and 1905.12) | August 20, 2014, 79 FR 49342, Docket No. OSHA 2009-0024 | 1218-0265 | 06/30/2018
Vehicle-Mounted Elevating and Rotating Work Platforms Standard (29 CFR 1910.67) | September 25, 2014, 79 FR 57583, Docket No. OSHA 2011-0185 | 1218-0230 | 06/30/2018
Vertical Tandem Lifts for Marine Terminals (29 CFR part 1917) | October 9, 2014, 79 FR 61101, Docket No. OSHA 2011-0066 | 1218-0260 | 06/30/2018
Vinyl Chloride Standard | December 4, 2014, 79 FR 72301, Docket No. OSHA 2011-0196 | 1218-0010 | 06/30/2018

In accordance with 5 CFR 1320.5(b), an agency cannot conduct, sponsor, or require a response to a collection of information unless the collection displays a valid OMB control number and the agency informs respondents that they need not respond to the collection of information unless it displays a valid OMB control number.

Authority and Signature

David Michaels, Ph.D., MPH, Assistant Secretary of Labor for Occupational Safety and Health, directed the preparation of this notice. The authority for this notice is 44 U.S.C. 3506 et seq. and Secretary of Labor's Order No. 1-2012 (77 FR 3912).

Signed at Washington, DC, on November 6, 2015.
David Michaels,
Assistant Secretary of Labor for Occupational Safety and Health.

[FR Doc. 2015-28762 Filed 11-10-15; 8:45 am]

BILLING CODE 4510-26-P